DEPARTMENT OF ENERGY

Federal Energy Regulatory Commission

[Docket Nos. ER06-24-001, EL06-79-000]

California Independent System Operator Corporation; Notice of Institution of Proceeding and Refund Effective Date

June 30, 2006.

On June 29, 2006, the Commission issued an order that instituted a proceeding in Docket No. EL06-79-000, pursuant to section 206 of the Federal Power Act (FPA), 16 U.S.C. 824e (2005), concerning the terms and conditions of the California Independent System Operator Corporation's Responsible Participating Transmission Owner Agreement (RPTOA), as amended. California Independent System Operator Corporation, 115 FERC ¶ 61,385 (2006).

The refund effective date in Docket No. EL06-79-000, established pursuant to section 206(b) of the FPA, will be the date of publication of this notice in the Federal Register.

Magalie R. Salas,
Secretary.

[FR Doc. E6-10692 Filed 7-7-06; 8:45 am]

BILLING CODE 6717-01-P